DEPARTMENT OF VETERANS AFFAIRS

Capital Asset Realignment for Enhanced Services (CARES) Commission Meeting

The Department of Veterans Affairs (VA) gives notice under Public Law 92-463 (Federal Advisory Committee Act) that the Capital Asset Realignment for Enhanced Services (CARES) Commission will meet on Wednesday, February 19, 2003, from 8:30 a.m. to 5 p.m. and Thursday, February 20, 2003, from 8:30 a.m. to 5 p.m. The meeting will be held at the Jefferson Hotel in the Monticello Room, 1200 16th Street, NW., Washington, DC. The meeting is open to the public.

The purpose of the Commission is to conduct an external assessment of VA's capital asset needs and to assure that stakeholder and beneficiary concerns are fully addressed. The Commission will consider recommendations prepared by VA's Under Secretary for Health, veterans service organizations, individual veterans, Congress, medical school affiliates, VA employees, local government entities, community groups and others. Following its assessment, the Commission will make specific recommendations to the Secretary of Veterans Affairs regarding the realignment and allocation of capital assets necessary to meet the demands for veterans health care services over the next 20 years.

This is the initial meeting of the Commission. On February 19, the agenda topics for this meeting will include background briefings on the CARES and an overview of the nine-step CARES process. On February 20, the Commission will discuss operating rules, future meeting topics and schedules, subcommittee assignments, and hearings. Also, the Commission members will receive an ethics briefing.

Interested persons may either attend or file statements with the Commission. Written statements may be filed either before the meeting or within 10 days after the meeting and addressed to: Department of Veterans Affairs, CARES Commission, 810 Vermont Avenue, NW., Washington, DC 20420. Any member of the public wishing additional information should contact Mr. Richard E. Larson at (202) 273-4800.

Dated: January 30, 2003.
By Direction of the Secretary.
Nora E. Egan,
Committee Management Officer.

[FR Doc. 03-2665 Filed 2-4-03; 8:45 am]

BILLING CODE 8320-01-M